INTERNATIONAL TRADE COMMISSION

Request for Information Concerning Draft Miscellaneous Tariff Legislation

AGENCY: United States International Trade Commission.

ACTION: Notice.

SUMMARY: The United States International Trade Commission is seeking non-confidential general information from interested parties, including proponents, on approximately 400 pending bills proposing duty suspensions or other tariff modifications on imported goods, from among the total number of such bills already introduced (over 600). The Commission regularly provides this information to the Committee on Ways and Means of the House of Representatives and to the Committee on Finance of the Senate, based on longstanding requests from the two Committees. These bills are under consideration for possible enactment later this year; many of them are covered by a recent press release issued by the Subcommittee on Trade of the Committee on Ways and Means (see http://waysandmeans.house.gov/trade/107cong/tr-9.htm). Because of the large number of bills introduced in recent weeks and the likely scheduling of Congressional proceedings for this summer, the normal Commission process for collecting and compiling this information is being suspended for the remainder of the 107th Congress, based on communications with the staffs of the two Committees. This notice is intended to advise interested parties of the introduction of these bills and to supplement the Commission's efforts to contact interested parties and collect the information needed by the two Committees.

EFFECTIVE DATE: To be useful to the Congress in its consideration, information is sought as soon as possible but not later than July 15, 2002.

ADDRESSES: A single copy of the information being supplied pursuant to this notice can be sent by facsimile transmission to the Office of Tariff Affairs and Trade Agreements, 202-205-2616. Information or questions on bills concerning chemicals, pharmaceuticals or related goods can be sent by electronic mail to David Beck, Nomenclature Analyst, at dbeck@usitc.gov or mailed to the Office of Tariff Affairs and Trade Agreements, United States International Trade Commission, Room 404-M, 500 E Street SW, Washington, DC 20436. Information or questions on other bills can be sent by electronic mail to Janis L. Summers, Esq., at jsummers@usitc.gov or mailed to Room 404-J at the above address.

FOR FURTHER INFORMATION CONTACT: David Beck, Nomenclature Analyst (202-205-2603); Janis L. Summers, Esq. (202-205-2605); or Eugene A. Rosengarden, Director, Office of Tariff Affairs and Trade Agreements (202-205-2592).

SUPPLEMENTARY INFORMATION: As indicated above, due to the volume of pending legislation and the likely scheduling of Congressional proceedings, the normal Commission process for collecting and compiling general information on miscellaneous tariff bills is being suspended for the remainder of the 107th Congress, based on communications with the staffs of the two Congressional Committees. To expedite the collection of the information needed by the Committees, the Commission is posting a list of bills for which general information is being sought, indicating the subject of each bill, on its Internet site, www.usitc.gov (under “New and Notable”), and will be updating this list as additional bills are introduced. A link enabling users to obtain these bills over the Internet will be supplied as well. Persons without access to the Internet can contact the Office of Tariff Affairs and Trade Agreements (202-205-2592) to obtain copies of the list of bills under review or copies of individual bills. Information supplied to the Commission will be compiled for use by the Congress in its consideration of these bills; aggregate information on each bill will be made available to the Congress and to government agencies requested by Congress to evaluate each bill. While Commission analysts will be communicating directly with individual firms, it is requested that firms and other interested parties, particularly firms that may produce goods covered by pending bills in the United States, supply particular general information to ensure its availability to the Committees in a timely manner. Information need not be supplied on all of the above items but can be supplied to the Commission as it is available. Persons desiring to register support for or objections to particular bills should contact the relevant Congressional Committees directly so that such views are available to the Members as quickly as possible.

Accordingly, non-confidential information of the following general types is being sought for each bill, as appropriate to the bill's subject matter, and information may be supplied on any or all of these topics:

(1) Chemical name of the product, if the proposed tariff provision contains only a trade or proprietary name; the Chemical Abstracts Service registry number, if missing from or incorrect in a bill dealing with a chemical product; and the Colour Index name, for chemical dyes and pigments;

(2) Suggested changes in product description or in Harmonized Tariff Schedule of the United States classification, and basis therefor;

(3) Estimated annual dutiable import levels (aggregate and for your firm) for each product covered by the bill for 2002 and each year of the bill's effective period or, if the proposal is for a permanent tariff change, through 2006;

(4) Current, past, or future domestic production of each product covered by the bill by your firm and by other firms; if none, any efforts by your firm to locate a domestic producer or reasons prohibiting domestic production (such as patent coverage);

(5) Estimated annual revenue loss (dutiable imports times applicable duty rate) for each product covered by the bill for 2002 and each year of the bill's effective period or, if the proposal is for a permanent tariff change, through 2006;

(6) Other recommended technical changes and information relevant to consideration of the bill.

Issued: May 16, 2002.
By order of the Commission.
Marilyn R. Abbott,
Secretary.

[FR Doc. 02-12705 Filed 5-20-02; 8:45 am]

BILLING CODE 7020-02-P